DEPARTMENT OF THE TREASURY

Submission for OMB Review; Comment Request

June 13, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 19, 2002, to be assured of consideration.

Internal Revenue Service (IRS)

OMB Number: 1545-0110.

Form Number: IRS Form 1099-DIV.

Type of Review: Extension.

Title: Dividends and Distributions.

Description: The form is used by the Service to insure that dividends are properly reports as required by Code section 6042 and that liquidation distributions are correctly reported as required by Code section 6043, and to determine whether payees are correctly reporting their income.

Respondents: Business or other for-profit.

Estimated Number of Respondents: 140,560.

Estimated Burden Hours Per Respondent: 16 minutes.

Frequency of Response: Annually.

Estimated Total Reporting Burden: 34,463,513 hours.

OMB Number: 1545-0173.

Form Number: IRS Form 4563.

Type of Review: Extension.

Title: Exclusion of Income for Bona Fide Residents of American Samoa.

Description: Form 4563 is used by bona fide residents of American Samoa whose income is from sources within American Samoa, Guam, and the Northern Mariana Islands to the extent specified in Internal Revenue Code (IRC) section 931. This information is used by the IRS to determine if an individual is eligible to exclude possession source income.

Respondents: Individual or households.

Estimated Number of Respondents/Recordkeepers: 100.

Estimated Burden Hours Per Respondent/Recordkeeper:

Recordkeeping—33 min.

Learning about the law or the form—7 min.

Preparing the form—25 min.

Copying, assembling, and sending the form to the IRS—17 min.

Frequency of Response: Annually.

Estimated Total Reporting/Recordkeeping Burden: 174 hours.

OMB Number: 1545-0227.

Form Number: IRS Form 6251.

Type of Review: Revision.

Title: Alternative Minimum Tax—Individuals.

Description: Form 6251 is used by individuals with adjustments, tax preference items, taxable income above certain exemption amounts, or certain credits. Form 6251 computes the alternative minimum tax which is added to regular tax. The information is needed to ensure the taxpayer is complying with the law.

Respondents: Individual or households.

Estimated Number of Respondents/Recordkeepers: 4,213,000.

Estimated Burden Hours Per Respondent/Recordkeeper:

Recordkeeping—19 min.

Learning about the law or the form—1 hr., 11 min.

Preparing the form—1 hr., 39 min.

Copying, assembling, and sending the form to the IRS—34 min.

Frequency of Response: Annually.

Estimated Total Reporting/Recordkeeping Burden: 15,840,880 hours.

OMB Number: 1545-0284.

Form Number: IRS Form 5309.

Type of Review: Extension.

Title: Application for Determination of Employee Stock Ownership Plan.

Description: Form 5309 is used in conjunction with Form 5300 or Form 5303 when applying for a determination letter as to a deferred compensation plan's qualification status under section 409 or 4975(e)(7) of the Internal Revenue Code. The information is used to determine whether the plan qualifies.

Respondents: Business or other for-profit.

Estimated Number of Respondents/Recordkeepers: 462.

Estimated Burden Hours Per Respondent/Recordkeeper:

Recordkeeping—6 hr., 13 min.

Learning about the law or the form—2 hr., 17 min.

Preparing and sending the form to the IRS—2 hr., 28 min.

Frequency of Response: On occasion.

Estimated Total Reporting/Recordkeeping Burden: 5,078 hours.

OMB Number: 1545-1110.

Form Number: IRS Form 940-EZ.

Type of Review: Extension.

Title: Employer's Annual Federal Unemployment (FUTA) Tax Return.

Description: Form 940-EZ is a simplified form that most employers with uncomplicated tax situations (e.g., only paying unemployment contributions to one state and paying them on time) can use to pay their FUTA tax. Most small businesses and household employers use the form.

Respondents: Business or other for-profit, Individuals or households, Farms.

Estimated Number of Respondents/Recordkeepers: 4,089,000.

Estimated Burden Hours Per Respondent/Recordkeeper:

Recordkeeping—7 hr., 8 min.

Learning about the law or the form—1 hr., 5 min.

Preparing and sending the form to the IRS—1 hr., 5 min.

Frequency of Response: Annually.

Estimated Total Reporting/Recordkeeping Burden: 36,162,483 hours.

OMB Number: 1545-1486.

Regulation Project Number: REG-209793-95 Final.

Type of Review: Extension.

Title: Simplification of Entity Classification Rules.

Description: These rules allow certain unincorporated business organizations to elect to be treated as corporations or partnerships for federal tax purposes. The information collected on the election will be used to verify the classification of electing organizations.

Respondents: Business or other for-profit.

Estimated Number of Respondents: 1.

Estimated Burden Hours Per Respondent: 1 hour.

Frequency of Response: Annually.

Estimated Total Reporting Burden: 1 hour.

OMB Number: 1545-1654.

Regulation Project Number: REG-106527-98 Final.

Type of Review: Extension.

Title: Capital Gains, Partnership and Subchapter S, and Trust Provisions.

Description: Section 1(h) requires that transferors recognize collectibles gain when an interest in an S corporation, trust, or a partnership holding property with collectibles gain is sold or exchanged and that partners take section 1250 capital gain in the partnership property into account when an interest in the partnership is sold or exchanged. These regulations provide guidance.

Respondents: Business or other for-profit, Individuals or households.

Estimated Number of Respondents: 1.

Estimated Burden Hours Per Respondent: 1 hour.

Frequency of Response: Annually.

Estimated Total Reporting Burden: 1 hour.

OMB Number: 1545-1655.

Regulation Project Number: REG-121946-98 Final.

Type of Review: Extension.

Title: Private Foundation Disclosure Rules.

Description: The collections of information in sections 301.6104(d)-1, 301.6104(d)-2 and 301.6104(d)-3 are necessary so that private foundations can make copies of their applications for tax-exemption and annual information returns available to the public.

Respondents: Not-for-profit institutions.

Estimated Number of Respondents/Recordkeepers: 65,065.

Estimated Burden Hours Per Respondent/Recordkeeper: 30 minutes.

Frequency of Response: On occasion.

Estimated Total Reporting/Recordkeeping Burden: 32,596 hours.

Clearance Officer: Glenn Kirkland, Internal Revenue Service, Room 6411-03, 1111 Constitution Avenue, NW., Washington, DC 20224.

OMB Reviewer: Joseph F. Lackey, Jr., Office of Management and Budget, Room 10235, New Executive Office Building, Washington, DC 20503. (202) 395-7316.

Lois K. Holland,
Departmental Reports Management Officer.

[FR Doc. 02-15468 Filed 6-18-02; 8:45 am]

BILLING CODE 4830-01-P